DEPARTMENT OF TRANSPORTATION

Federal Aviation Administration

Public Meeting With Interested Persons To Discuss the Proposed Federal Aviation Administration (FAA) Draft Technical Standard Order (TSO)-C199 Establishing the Minimum Performance Standard (MPS) for Low Powered Surveillance Equipment (LPSE)

AGENCY: Federal Aviation Administration (DOT).

ACTION: Notice of public meetings.

SUMMARY: The Federal Aviation Administration (FAA) will be holding a public meeting to discuss issuing a new Technical Standard Order (TSO). This TSO will define a minimum performance standard (MPS) for avionic surveillance equipment, for aircraft that are currently exempt from using ATC transponder and altitude reporting equipment or automatic dependent surveillance-broadcast (ADS-B Out) equipment as defined in Title 14 of the Code of Federal Regulations (14 CFR) §§ 91.215 and 91.225.

Meeting Dates and Location:

DATES: This meeting will be held on April 4-5, in Washington, DC.

ADDRESSES: FAA Headquarters, 800 Independence Ave. SW., Washington, DC 20591.

FOR FURTHER INFORMATION CONTACT: To obtain additional details and to register for this meeting, please contact: Mr. John Fisher, AIR-130, Federal Aviation Administration, Aircraft Certification Service, Avionics Systems Branch, 470 L'Enfant Plaza SW., Fourth floor, Washington, DC 20591, Telephone (202) 385-4948, FAX: (202) 385-4651, Email: john.d.fisher@faa.gov.

SUPPLEMENTARY INFORMATION:

Background

Currently, certain types of aircraft, such as gliders, balloons, and aircraft not originally certified with an electrical system, as defined in §§ 91.215(b)(3), 91.215(b)(5), 91.225(e)(1), and 91.225(e)(2), are not required to carry a transponder or ADS-B Out equipment when flying in the National Airspace System (NAS). Available data shows that where glider flight operations coincide with powered aircraft flight operations, the likelihood of a mishap is greatest. To mitigate this risk, the FAA proposes a new, low powered surveillance system (LPSE) that will interface with aircraft equipped with current collision avoidance systems, such as Traffic Avoidance System (TAS), Traffic Alert and Collision Avoidance System I and II (TCAS I) (TCAS II), and those aircraft equipped with ADS-B In and display capability. The FAA intends to hold a public meeting to facilitate a technical interchange with equipment manufacturers, potential users, and interested parties, to discuss technical LPSE design considerations. The FAA envisions a new TSO-C199, Low Powered Surveillance Equipment (LPSE) that will provide an effective way for gliders, balloons, and aircraft not originally certified with an electrical system to interface with current collision avoidance systems.

Issued in Washington, DC, on March 7, 2012.
Susan J.M. Cabler,
Assistant Manager, Aircraft Engineering Division, Aircraft Certification Service.

[FR Doc. 2012-5926 Filed 3-12-12; 8:45 am]

BILLING CODE 4910-13-P